DEPARTMENT OF AGRICULTURE

Agricultural Research Service

Notice of Intent To Grant Exclusive Patent License

AGENCY: Agricultural Research Service, USDA.

ACTION: Notice of intent.

SUMMARY: Notice is hereby given that the U.S. Department of Agriculture, Forest Service, intends to grant Hydrofarm, Inc. of Petaluma, California, an exclusive license for U.S. Patent No. 5,095,414, entitled “Greenhouse Illumination System”. Notice of Availability was published in the Federal Register on December 17, 1991.

DATES: Comments must be received on or before November 13, 2000.

ADDRESSES: Send comments to: Janet I. Stockhausen, USDA Forest Service, One Gifford Pinchot Drive, Madison, Wisconsin 53705-2398.

FOR FURTHER INFORMATION CONTACT: Janet I. Stockhausen of the USDA Forest Service at the Madison address given above; telephone: 608-231-9502; fax: 608-231-9508; or email: jistockh@facstaff.wisc.edu

SUPPLEMENTARY INFORMATION: The Federal Government's patent rights to this invention are assigned to the United States of America, as represented by the Secretary of Agriculture. It is in the public interest to so license this invention as Hydrofarm, Inc. has submitted a complete and sufficient application for a license. The prospective license will be royalty bearing and will comply with the terms and conditions of 35 U.S.C. 209 and 37 CFR 404.7. The prospective license may be granted unless, within sixty days from the date of this published Notice, the Forest Service receives written evidence and argument which establishes that the grant of the license would not be consistent with the requirements of 35 U.S.C. 209 and 37 CFR § 404.7.

Richard M. Parry, Jr.,
Assistant Administrator.

[FR Doc. 00-23553 Filed 9-13-00; 8:45 am]

BILLING CODE 3410-03-P